DEPARTMENT OF TRANSPORTATION

Surface Transportation Board

[STB Finance Docket No. 34331]

Wisconsin Central Ltd.—Trackage Rights Exemption—Elgin, Joliet and Eastern Railway Company

Pursuant to a trackage rights agreement dated April 8, 2003, between Wisconsin Central Ltd. (WCL), and the Elgin, Joliet and Eastern Railway Company (EJE), WCL shall have non-exclusive overhead trackage rights between the EJE's connection with WCL at Leithton, IL, at or near EJE milepost 59.3 and EJE's connection with the Chicago Central & Pacific Railroad Company (CCP)¹ at Munger, IL, at or near EJE milepost 35.3, on EJE's Western Subdivision, a total distance of approximately 24 miles.²

¹ WCL and CCP are affiliates of Canadian National Railway Company.

² A redacted version of the trackage rights agreement between WCL and EJE was filed with the notice of exemption. On April 15, 2003, the full version of the agreement, as required by 49 CFR 1180.6(a)(7)(ii), was filed under seal along with a motion for protective order. A protective order was served in this proceeding on April 23, 2003.

The transaction was scheduled to be consummated on or after April 16, 2003.

The purpose of the trackage rights is to allow WCL access to the Hawthorne Yard in Chicago, which is operated by CCP.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34331, must be filed with the Surface Transportation Board, 1925 K Street, NW., Washington, DC 20423-0001. In addition, a copy of each pleading must be served on Michael J. Barron, Jr., 455 North Cityfront Plaza Drive, Chicago, IL 60611-5317.

Board decisions and notices are available on our website at http://www.stb.dot.gov.

Decided: April 23, 2003.
By the Board, David M. Konschnik, Director, Office of Proceedings.
Vernon A. Williams,
Secretary.

[FR Doc. 03-10528 Filed 4-28-03; 8:45 am]

BILLING CODE 4915-00-P